DEPARTMENT OF HOMELAND SECURITY

U.S. Citizenship and Immigration Services

[CIS No. 2421-07; DHS Docket No. USCIS-2007-0049]

RIN 1615-ZA58

Automatic Extension of Employment Authorization and Related Documentation for Liberians Provided Deferred Enforced Departure

AGENCY: U.S. Citizenship and Immigration Services, Department of Homeland Security (DHS).

ACTION: Notice.

SUMMARY: This notice announces an 18-month automatic extension of employment authorization and Employment Authorization Documents for Liberians (and persons without nationality who last habitually resided in Liberia) who have been provided Deferred Enforced Departure (DED) in accordance with the Memorandum from President George W. Bush, to Secretary of Homeland Security, Michael Chertoff, dated September 12, 2007. In addition, this notice informs the affected Liberians and their employers, or prospective employers, that a copy of this notice presented in conjunction with an Employment Authorization Document (EAD) expiring on September 30, 2007, that was previously issued to the person as a beneficiary of Temporary Protected Status (TPS), may be accepted as evidence of a covered individual's continued employment authorization through March 31, 2009. This notice further informs Liberians covered by DED and their employers how they may determine which EADs are automatically extended. Finally, this notice provides instructions for those Liberians who have been provided DED and who would like to apply for permission to travel outside the United States during the 18-month DED period.

DATES: The 18-month automatic extension of employment authorization for Liberians who are eligible for DED, including the extension of their EADs, as specified in this notice, is effective as of 12:01 a.m. October 1, 2007. This automatic extension will expire on March 31, 2009.

FOR FURTHER INFORMATION CONTACT: Shelly Hock, Status and Family Branch, Office of Service Center Operations, U.S. Citizenship and Immigration Services, Department of Homeland Security, 20 Massachusetts Avenue, NW., 2nd Floor, Washington, DC 20529, telephone (202) 272-1533. This is not a toll-free call. Further information will also be available at local USCIS offices upon publication of this Notice and on the USCIS Web site at http://www.uscis.gov.

Note: The phone number provided here is solely for questions regarding this notice and the information it contains. It is not for individual case status inquiries. Applicants seeking information about the status of their individual cases can check Case Status Online available at the USCIS Web site listed above, or applicants may call the USCIS National Customer Service Center at 1-800-375-5283.

SUPPLEMENTARY INFORMATION:

Extension of Employment Authorization and EADs

Who is eligible for an 18-month automatic extension of employment authorization through March 31, 2009?

The Department of Homeland Security (DHS) is granting an 18-month extension of employment authorization and the EADs specified in this notice to Liberians who are provided DED in accordance with President Bush's Memorandum to Secretary of Homeland Security, Michael Chertoff, dated September 12, 2007 (“Presidential Memorandum”). As described in that Presidential Memorandum, such individuals who are nationals of Liberia (or persons having no nationality who last habitually resided in Liberia) who have TPS status as of September 30, 2007. In accordance with his constitutional authority to conduct the foreign relations of the United States, the President has directed that such Liberians, who are eligible as described in the Presidential Memorandum, be provided DED for an 18 month period after their TPS status ends. In addition, the President directed Secretary Chertoff and DHS to implement the necessary steps to authorize employment for 18 months from October 1, 2007, for Liberians (and persons without nationality who last resided in Liberia) who are eligible for DED in accordance with the Presidential Memorandum. If TPS for an individual was withdrawn or denied as of September 30, 2007, he or she will not be eligible to receive DED or the automatic extension of employment authorization.

Which EADs are automatically extended to March 31, 2009?

This automatic extension is limited to EADs issued to Liberians (or persons without nationality who last habitually resided in Liberia) on Form I-766, Employment Authorization Document, bearing an expiration date of September 30, 2007. These EADs must also bear the notation “A-12” or “C-19” on the face of the card under “Category.” These are the same EADs issued in conjunction with the individual's TPS status that terminates as of 12:01 a.m. October 1, 2007 (71 FR 55000 (September 20, 2006)).

How may employers determine whether an EAD has been automatically extended for 18 months through March 31, 2009, and is therefore acceptable for completion of the Form I-9?

A Form I-766 (EAD) issued to a Liberian national (or person with no nationality who last habitually resided in Liberia) bearing the notation “A-12” or “C-19” on the face of the card under “Category,” and having an expiration date of September 30, 2007, on the face of the card, is acceptable for completion of the Form I-9. This notice provides an 18 month automatic extension of such EADs until March 31, 2009. Employers should not request proof of Liberian citizenship.

Employers should accept an EAD as a valid “List A” document and not ask for additional Form I-9, Employment Eligibility Verification, documentation if presented with an EAD that has been extended pursuant to this Federal Register Notice, and the EAD reasonably appears on its face to be genuine and to relate to the employee. This does not affect the right of an applicant for employment or an employee to present any legally acceptable document as proof of identity and eligibility for employment.

Note to Employers

Employers are reminded that the laws requiring employment eligibility verification and prohibiting unfair immigration-related employment practices remain in full force. This notice does not supersede or in any way limit applicable employment verification rules and policy guidance, including those setting forth re-verification requirements, see 8 CFR 274a.2(b)(1)(vii). For questions, employers may call the USCIS Office of Business Liaison Employer Hotline at 1-800-357-2099. Also, employers may call the U.S. Department of Justice Office of Special Counsel for Immigration Related Unfair Employment Practices (OSC) Employer Hotline at 1-800-255-8155. Employees or applicants may call the OSC Employee Hotline at 1-800-255-7688 for information regarding the automatic extension. Additional information is available on the OSC Web site at http://www.usdoj.gov/crt/osc/index.html.

What documents may a qualified individual show to his or her employer as proof of employment authorization and identity when completing Form I-9?

Through March 31, 2009, Liberians (and persons having no nationality who last habitually resided in Liberia) who are eligible for DED, as described in the Presidential Memorandum, may present a copy of this Federal Register Notice regarding the automatic extension of employment authorization documentation, along with their Form I-766 (EAD) bearing the notation “A-12” or “C-19” on the face of the card under “Category,” and having an expiration date of September 30, 2007, on the face of the card. In the alternative, any legally acceptable document or combination of documents listed in List A, List B, or List C of the Form I-9 may be presented as proof of identity and employment eligibility.

Can an individual apply for an EAD if that individual is eligible for DED in accordance with the Presidential Memorandum, but he or she does not posses an EAD issued in conjunction with a prior grant of TPS?

Yes. Individuals granted TPS for Liberia, who did not request or receive an EAD, or had their EAD lost, stolen or mutilated and who would like a replacement EAD, may apply for an EAD. Such persons may file USCIS Form I-765, Application for Employment Authorization Document, during the duration of the period that they are eligible for DED. Applicants for EADs must also carefully follow the instructions accompanying the Form I-765. Please submit Form I-765 and supporting documentation to: Vermont Service Center, Attn: I-765, 75 Lower Welden St., St. Albans, VT 05479-0001.

On the Form I-765, the individual must indicate that he or she was a beneficiary of Liberian TPS that expires as of October 1, 2007, and is now eligible for DED. The individual should also include a copy of his or her latest Form I-797, Notice of Action, showing that he or she was previously approved for TPS, if such copy is available. If biometrics are required to produce the secure EAD, the individual may be scheduled for an appointment at a USCIS Application Support Center. The EAD that is issued will contain an expiration date of March 31, 2009. This EAD bearing a March 31, 2009, expiration date may also be presented to employers as a valid document for I-9 purposes.

May I request an interim EAD at my local district office?

No. USCIS will not be issuing interim EADs to individuals eligible for DED under the Presidential Memorandum at local district offices.

May an individual who is covered by DED under the Presidential Memorandum travel outside of the United States and be permitted to return during the 18 month DED period?

Individuals eligible for DED who would like to travel outside of the United States must apply for and receive advance parole by filing Form I-131, Application for Travel Document, with required fees. See 8 CFR 223.2(a). The determination whether to grant advance parole is within the discretion of DHS and is not guaranteed in all cases.

Dated: September 14, 2007.
Emilio T. Gonzalez,
Director, U.S. Citizenship and Immigration Services.

[FR Doc. 07-4645 Filed 9-14-07; 3:10 pm]

BILLING CODE 4410-10-P